DEPARTMENT OF HEALTH AND HUMAN SERVICES

Administration for Children and Families

Submission for OMB Review; Tribal Maternal, Infant, and Early Childhood Home Visiting Program Form 2: Grantee Performance Measures (OMB #0970-0500)

AGENCY: Office of Child Care; Administration for Children and Families; HHS.

ACTION: Request for public comment.

SUMMARY: The Administration for Children and Families (ACF) is requesting a 3-year extension of the ACF—Tribal Maternal, Infant, and Early Childhood Home Visiting (Tribal MIECHV) Program Form 2: Grantee Performance Measures (OMB #0970-0500; Expiration date 8/31/2020). There are no changes requested to the form.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: ACF Reports Clearance Officer. All requests, emailed or written, should be identified by the title of the information collection.

SUPPLEMENTARY INFORMATION:

Description: The Maternal, Infant, and Early Childhood Home Visiting Program (MIECHV) authorizes the Secretary of HHS (in Section 511(h)(2)(A)) to award grants to Indian tribes (or a consortium of Indian tribes), tribal organizations, or urban Indian organizations to conduct an early childhood home visiting program. The legislation set aside 3 percent of the total MIECHV program appropriation for grants to tribal entities. Tribal MIECHV grants, to the greatest extent practicable, are to be consistent with the requirements of the MIECHV grants to states and jurisdictions and include conducting a needs assessment and establishing quantifiable, measurable benchmarks.

The ACF, Office of Child Care, in collaboration with the Health Resources and Services Administration, Maternal and Child Health Bureau, awards grants for the Tribal MIECHV Program. The Tribal MIECHV grant awards support 5-year cooperative agreements to conduct community needs assessments; plan for and implement high-quality, culturally relevant, evidence-based home visiting programs in at-risk tribal communities; collect and report on performance measures; and participate in research and evaluation activities to build the knowledge base on home visiting among Native populations.

Specifically, the MIECHV legislation requires that State and Tribal MIECHV grantees collect performance data to measure improvements for eligible families in six specified areas (referred to as “benchmark areas”) that encompass the major goals for the program. These include:

1. Improved maternal and newborn health;

2. Prevention of child injuries, child abuse, neglect, or maltreatment, and reduction in emergency department visits;

3. Improvement in school readiness and achievement;

4. Reduction in crime or domestic violence;

5. Improvement in family economic self-sufficiency; and

6. Improvement in the coordination and referrals for other community resources and supports.

Tribal MIECHV grantees are required to propose a plan for meeting the benchmark requirements specified in the legislation and must report on improvement on constructs under each benchmark area. Tribal Home Visiting (HV) Form 2 will provide a template for Tribal MIECHV grantees to report data on their progress in improving performance under the six benchmark areas, as stipulated in the legislation.

ACF will continue to use Tribal HV Form 2 to:

• Track and improve the quality of benchmark measures data submitted by the Tribal grantees;

• Improve program monitoring and oversight;

• Improve rigorous data analyses that help to assess the effectiveness of the programs and enable ACF to better monitor projects; and

• Ensure adequate and timely reporting of program data to relevant federal agencies and stakeholders including Congress and members of the public.

Respondents: Tribal MIECHV Program Grantees.

Annual Burden Estimates
Instrument | Total number of respondents | Annual number of responses per respondent | Average burden hours per response | Annual burden hours
Tribal MIECHV Form 2 | 23 | 1 | 500 | 11,500

Estimated Total Annual Burden Hours: 11,500.

Authority: Public Law 115-123, Section 511(h)(2)(A) of Title V of the Social Security Act.

Mary B. Jones,
ACF/OPRE Certifying Officer.

[FR Doc. 2020-00593 Filed 1-15-20; 8:45 am]

BILLING CODE 4184-77-P